DEPARTMENT OF THE INTERIOR

Office of the Secretary

[DR.5A311.IA000514]

Commission on Indian Trust Administration and Reform

AGENCY: Office of the Secretary, Interior.

ACTION: Notice of Renewal of the Commission on Indian Trust Administration and Reform.

SUMMARY: Following consultation with the General Services Administration, notice is hereby given that the Secretary of the Interior is renewing the Commission on Indian Trust Administration and Reform.

FOR FURTHER INFORMATION CONTACT: Sarah Harris, Designated Federal Officer, Office of the Secretary, 1849 C Street NW., Mailstop 4141, Washington DC 20240; or email to trustcommission@ios.doi.gov. To review all related material on the Commission's work, please refer to http://www.doi.gov/cobell/commission/index.cfm.

SUPPLEMENTARY INFORMATION: The purpose of the Commission is to provide advice and recommendations to the Secretary of the Interior (Secretary) regarding trust management. This includes a thorough evaluation of the existing management and administration of the trust administration system to support a reasoned and factually based set of options for potential management improvements. This further includes a review of the manner in which the Department audits the management of the trust administration system, including the possible need for audits of management of trust assets.

Certification Statement

I hereby certify that the renewal of the Commission on Indian Trust Administration and Reform is necessary, is in the public interest and is established under the authority of the Secretary of the Interior, Department of the Interior under Section 2 of the Reorganization Plan No. 3 of 1950 (64 Stat. 1262), as amended, the American Indian Trust Fund Management Reform Act of 1994, 25 U.S.C. 4001-4061, and the Claims Resolution Act of 2010, Public Law 111-291.

Dated: November 20, 2013.
Sally Jewell,
Secretary.

[FR Doc. 2013-28440 Filed 11-26-13; 8:45 am]

BILLING CODE 4310-W7-P